DEPARTMENT OF ENERGY

Federal Energy Regulatory Commission

Combined Notice of Filings

Take notice that the Commission has received the following Natural Gas Pipeline Rate and Refund Report filings:

Filings Instituting Proceedings

Docket Numbers: RP17-6-000.

Applicants: Natural Gas Pipeline Company of America.

Description: Penalty Revenue Crediting Report of Natural Gas Pipeline Company of America LLC.

Filed Date: 10/6/16.

Accession Number: 20161006-5101.

Comments Due: 5 p.m. ET 10/18/16.

Docket Numbers: RP17-7-000.

Applicants: Equitrans, L.P.

Description: § 4(d) Rate Filing: Update Creditworthiness Provisions to be effective 11/6/2016.

Filed Date: 10/6/16.

Accession Number: 20161006-5131.

Comments Due: 5 p.m. ET 10/18/16.

Docket Numbers: RP17-8-000.

Applicants: Vector Pipeline L.P.

Description: § 4(d) Rate Filing: Filing to Remove Redundant Negotiated Rate Summaries to be effective 11/8/2016.

Filed Date: 10/7/16.

Accession Number: 20161007-5016.

Comments Due: 5 p.m. ET 10/19/16.

Docket Numbers: RP17-9-000.

Applicants: White River Hub, LLC.

Description: § 4(d) Rate Filing: Statement of Rates V. 4.0.0 to be effective 11/10/2016.

Filed Date: 10/11/16.

Accession Number: 20161011-5014.

Comments Due: 5 p.m. ET 10/24/16.

Docket Numbers: RP17-10-000.

Applicants: Guardian Pipeline, L.L.C.

Description: § 4(d) Rate Filing: Update Statement of Negotiated Rates—November 2016 to be effective 11/1/2016.

Filed Date: 10/11/16.

Accession Number: 20161011-5123.

Comments Due: 5 p.m. ET 10/24/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-1174-001.

Applicants: Kern River Gas Transmission Company.

Description: Compliance filing 2016 KRF-PK Compliance to be effective 9/17/2016.

Filed Date: 10/11/16.

Accession Number: 20161011-5011.

Comments Due: 5 p.m. ET 10/24/16.

Docket Numbers: RP16-1219-001.

Applicants: Texas Gas Transmission, LLC.

Description: Compliance filing Compliance Filing in Docket No. RP16-1219-000 to be effective 10/1/2016.

Filed Date: 10/11/16.

Accession Number: 20161011-5057.

Comments Due: 5 p.m. ET 10/24/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2016.
Nathaniel J. Davis, Sr.,
Deputy Secretary.

[FR Doc. 2016-25158 Filed 10-17-16; 8:45 am]

BILLING CODE 6717-01-P